DEPARTMENT OF TRANSPORTATION

National Highway Traffic Safety Administration

49 CFR Part 565

[Docket No. NHTSA 2008-0022]

RIN 2127-AJ99

Vehicle Identification Number Requirements

AGENCY: National Highway Traffic Safety Administration (NHTSA), DOT.

ACTION: Final rule.

SUMMARY: This document amends 49 CFR Part 565, Vehicle Identification Number Requirements, to make certain changes in the 17-character vehicle identification number (VIN) system so that the system will remain viable for at least another 30 years. This rule was initiated by a petition from SAE International (formerly known as the Society of Automotive Engineers), which was concerned that the available supply of VINs, and particularly the manufacturer identifier part of the VIN, might run out. This final rule will ensure that there will be a sufficient number of unique manufacturer identifiers and VINs to use for at least another 30 years.

DATES: Effective Date: October 27, 2008.

Compliance Dates: Amendments made in this rule apply to motor vehicles manufactured on or after October 27, 2008 whose VINs have a letter “A” or “B” in the 10th position of the VIN, and to all motor vehicles manufactured on or after April 30, 2009.

Petitions for Reconsideration: Petitions for reconsideration of this rule must be received by June 16, 2008.

ADDRESSES: Petitions for reconsideration should refer to the docket and notice number above and be submitted to: Administrator, National Highway Traffic Safety Administration, 1200 New Jersey Avenue, SE., Washington, DC 20590.

See the SUPPLEMENTARY INFORMATION portion of this document (Section IV, Rulemaking Analyses and Notices) for DOT's Privacy Act Statement regarding documents submitted to the agency's dockets.

FOR FURTHER INFORMATION CONTACT: For non-legal issues, you may contact Mr. Kenneth O. Hardie, Office of Crash Avoidance Standards (NVS-120), NHTSA, 1200 New Jersey Avenue, SE., Washington, DC 20590 (Telephone: 202-366-6987) (FAX: 202-366-7002).

For legal issues, you may contact Ms. Rebecca Schade, Office of the Chief Counsel, NHTSA, 1200 New Jersey Avenue, SE., Washington, DC 20590 (Telephone: 202-366-2992) (FAX: 202-366-3820).

SUPPLEMENTARY INFORMATION:

Table of Contents

I. Executive Summary

II. Background

A. History and Overview of the VIN System

B. Petition for Rulemaking

C. Notice of Proposed Rulemaking

III. The Final Rule and Response to Public Comments

A. Summary of Public Comments

B. Summary of Amendments Adopted in This Final Rule

IV. Rulemaking Analyses and Notice

I. Executive Summary

In response to a petition for rulemaking, the National Highway Traffic Safety Administration (NHTSA) is amending 49 CFR Part 565, Vehicle Identification Number Requirements (Part 565), so that the supply of manufacturer identifiers and vehicle identification numbers available under this regulation will be sufficient for at least the next 30 years.

To accomplish this, NHTSA is revising the requirements for where certain information must be communicated in a vehicle identification number (VIN) as well as the characters that may be used in some of the 17 positions of the VIN for passenger cars and multipurpose passenger vehicles and trucks with a gross vehicle weight rating of 4536 kg (10,000 lb) or less. These changes will have two primary effects. First, the need to issue new manufacturer identifiers, particularly for large manufacturers, should be drastically reduced, thus preserving for a longer period of time the remaining combinations of characters that are available to be issued. Second, the changes will substantially increase the number of combinations of characters available in positions 4 through 8 of the VIN, as well as combinations of those characters with characters in the other VIN positions, so that the number of available VINs will significantly increase, enabling the current 17-character system to continue for another 30 years and possibly longer.

The final rule published today differs very little from the notice of proposed rulemaking (NPRM) published on October 2, 2007.¹ The differences are as follows.

¹ 72 FR 56027 (Oct. 2, 2007) (Docket No. NHTSA-2007-27830-0001).

• The date and conditions under which this rule becomes effective have been changed in response to comments that indicated a need for prompt implementation of this rule.

• While this rule now makes clear that Low Speed Vehicles (LSVs) require a VIN, LSVs have been dropped from the list of vehicles that would require, and be limited to the use of an alphabetic character in position 7 of the VIN. This was done in response to comments noting that the need for only an alphabetic character in position 7 applies mainly to passenger cars and multipurpose passenger vehicles and trucks with a gross vehicle weight rating of 4536 kg (10,000 lb) or less, not all other vehicles covered by 49 Part 565, such as trailers and low speed vehicles.

Comments received in response to the NPRM generally supported the proposed changes to Part 565. Two commenters sought clarification as to how the new rule would apply to trailers. A small number of the comments recommended changes to what was proposed. These comments, however, reflected a less than complete understanding of the proposed changes and, in one case, the purpose of our proposal in helping to sustain the current 17-character VIN system over the next 30 years.

Many of the comments raised issues that were either not specifically addressed in the NPRM or involved suggested uses of the VIN system that are outside the scope of either NHTSA's authority or the purpose and scope of the VIN system. For these reasons, changes to Part 565 suggested by the comments have not been made. A common suggestion of this type was that NHTSA include (in the information that must be communicated in the VIN) whether or not a vehicle is certified to California emission standards.

In summary, the new VIN requirements apply to vehicles that are manufactured on or after October 27, 2008 whose VINs have a letter “A” or “B” in the 10th position of the VIN, and to all vehicles manufactured on or after April 30, 2009.

The principal changes to Part 565 issued today that impact the options vehicle manufacturers have in complying with Part 565 are as follows:

• Vehicle “make” will no longer be required to be identified in the manufacturer identifier of the VIN.

• Vehicle “make” will now need to be identified, along with other information items included in the previous version of Part 565, in the second section of the VIN, which consists of VIN positions 4-8.

• In generating VINs for vehicles that comply with Part 565, manufacturers of passenger cars and multipurpose passenger vehicles and trucks with a gross vehicle weight rating of 4536 kg. (10,000 lbs.) or less will have an expanded number of characters available in positions 4, 5, and 6 of the VIN. All three of these positions may now be either numeric or alphabetic. These manufacturers will also be required to use an alphabetic character in position 7 of the VIN.

II. Background

A. History and Overview of the VIN System

Since 1954, American automobile manufacturers have used a vehicle identification number (VIN) to describe and identify each of the motor vehicles they manufacture. The early VINs came in a wide array of configurations and variations, depending on the individual manufacturer. A move to create a more systematic VIN scheme was made in 1968, with the enactment of Federal motor vehicle safety standard (FMVSS) No. 115, which took effect January 1, 1969. That standard required each passenger car to have a VIN that is permanently “sunk or embossed” on a part of the vehicle visible through the glazing by a person standing at the left windshield pillar. Manufacturers were required to avoid having a VIN be repeated within a 10-year period.

In response to a petition from the Motor Vehicle Manufacturers Association and Volkswagen of America, Inc., the National Highway Traffic Safety Administration (NHTSA) in 1976 began considering an even more structured and standardized system of VINs as well as expanding the system to additional classes of vehicles. This process led to the current system of 17-character VINs. A final rule implementing the new system was published on August 17, 1978.² The rule stipulated that beginning with the 1981 model year, NHTSA would require that all over-the-road-vehicles sold must contain a 17-character VIN in a fixed format. The standard further required that the VINs of any two vehicles manufactured within a 30 year period not be identical.

² 43 FR 36448 (Aug. 17, 1978) (Docket No. 1-22; Notice 5).

On June 7, 1996, NHTSA issued a final rule consolidating all VIN requirements into 49 CFR Part 565.³ Federal motor vehicle safety standard (FMVSS) No. 115 was eliminated. Part 565 requires the manufacturer to assign a unique VIN to each passenger car, multipurpose passenger vehicle, truck, bus, trailer (including trailer kit), incomplete vehicle, and motorcycle that it produces.

³ 61 FR 29031 (June 7, 1996) (Docket No. NHTSA-95-85; Notice 2).

One of the original purposes of the VIN system was to enhance public safety by deterring vehicle theft based on the assumption that drivers of stolen vehicles are more likely to operate those vehicles unsafely and thus be involved in vehicle crashes. The current 17-character VIN system embodied in Part 565 continues to serve this purpose and, as stated in Part 565, also serves “to increase the accuracy and efficiency of vehicle recall campaigns.” Recalls are a critical tool for correcting safety defects in vehicles. The VIN has also become the key identifier in data systems that track such things as compliance with federal importation regulations, vehicle registrations, insurance coverage, and motor vehicle crashes. Entities that today utilize VINs in data systems include NHTSA, state motor vehicle departments, law enforcement agencies, insurance companies, organizations involved in motor vehicle research, and manufacturers.

Characters in a VIN are used in one of three ways. Some specific VIN positions represent a single item of information related to a vehicle. Other groups of VIN positions may be used individually or in combination to represent information that must be deciphered from a key that the manufacturer provides to NHTSA as required by Part 565. Utilizing combinations of at least some VIN positions has been necessary for some vehicles because the amount of information about a vehicle required by Part 565 to be represented in the first (positions 1-3) and second (positions 4-8) sections of the VIN in some cases exceeds the number of positions available in those sections. Finally, the last digits of the VIN are used by manufacturers to sequentially number groups of similar vehicles that are manufactured. Small annual volume manufacturers use the last three digits to number vehicles. Large annual volume manufacturers use the last six digits.

The VIN has four sections. The first consists of the first three VIN characters. For large manufacturers, these three positions represent a manufacturer identifier, which meets both the requirements of Part 565 and International Standard 3780: Road vehicles “ World manufacturer identifier (WMI) code (Small manufacturers must use a six character manufacturer identifier consisting of the first three VIN positions and positions 12-14). In International Standard 3780, adopted by the International Organization for Standardization (ISO) in 1980, the first three digits of the VIN are referred to as the World Manufacturer Identifier (WMI). Although it is common to refer to the first three digits of the VIN as the WMI, the first three digits will be referred to here as the “manufacturer identifier” because Part 565 does not use the term “WMI.” Also, Part 565's requirements for the first three digits of the VIN differ somewhat from those of International Standard 3780 and it is Part 565's requirements that are affected by the final rule.

NHTSA currently contracts with the SAE International (SAE) to coordinate and issue manufacturer identifiers that comply with Part 565 to U.S. manufacturers. In issuing these identifiers, SAE also ensures that the identifiers comply with the requirements of International Standard 3780 for WMIs.

Part 565 currently requires that manufacturers identify manufacturer, make and type of motor vehicle in the first three digits of a VIN. To comply with International Standard 3780, this section of the VIN must also indicate the country in which the vehicle was manufactured.

The proliferation of vehicle makes for passenger vehicles has resulted in large manufacturers with multiple makes of vehicles having to obtain multiple manufacturer identifiers. This, in combination with large manufacturer identifiers issued to large manufacturers of other types of vehicles, has resulted in a drain on the supply of manufacturer identifiers/WMIs available for large U.S. manufacturers.

The five characters in the second section (positions 4 through 8) of a VIN must identify attributes of the specific type of vehicle involved. These attributes are indicated in Table I in Part 565.15 (formerly 565.6).

The third VIN section consists of one character, called a check digit, in the ninth VIN position. It reflects a calculation specified in Part 565 that is based on the other VIN characters and that serves as a check against typographical errors in transcribing a VIN.

The fourth section consists of positions 10-17. The first two, positions 10 and 11, are for the model year and plant of manufacture respectively. For large manufacturers, the last six characters are used to sequentially number vehicles in groups of similar vehicles that are manufactured by a given manufacturer. For manufacturers initially intending to produce fewer than 500 vehicles of a given type, VIN positions 12, 13, and 14 are additional characters used for the manufacturer's manufacturer identifier. Under the current version of Part 565, this means manufacturers that produce fewer than 500 vehicles of a given type have a six-digit manufacturer identifier consisting of the first three positions of the 17-character VIN, with the third position in practice always being a 9, and positions 12, 13, and 14. These small manufacturers use only the last three digits of the VIN to sequentially number similar vehicles they produce.

When the current version of Part 565 went into effect beginning with the 1981 model year, it was anticipated that the permutations available under the 17-character system described in Part 565 would provide a sufficient number of unique VINs and manufacturer identifiers so that, as required by Part 565, “the VINs of any two vehicles manufactured within a 30-year period shall not be identical.”

B. Petition for Rulemaking

In a letter dated October 31, 2005,⁴ the SAE Vehicle Identification Number/World Manufacturer Identifier Technical Committee ⁵ petitioned NHTSA to make certain changes to the current VIN system. The committee proposed “minor revisions” to Part 565 that it believed would both preserve the current 17-character VIN format while significantly expanding the universe of available unique manufacturer identifiers and VINs (At NHTSA's request, SAE submitted a subsequent letter dated February 23, 2006,⁶ clarifying certain items in the original petition). The petition proposed changes that would keep the current 17-character VIN, but would add to the characters that may appear in some of the VIN positions for passenger cars and multipurpose passenger vehicles and trucks with a gross vehicle weight rating of 4536 kg (10,000 lb) or less, thus adding significantly to the number of available unique VINs for these vehicles. In addition to changes that would expand the number of available manufacturer identifiers and VINs, the petitioners asked NHTSA: (1) To add to the Part 565 list of vehicle attributes those that must be communicated in, and decipherable from, the VIN of a low speed vehicle (LSV); (2) to clarify the way the “check digit” as defined in Part 565 is determined; (3) to expand the restraint system information that must be decipherable from a passenger car VIN; and (4) to add language that further explains the typefaces permitted for a VIN. The petitioners further proposed that these changes take effect beginning with the 2010 model year due to concerns over the supply of manufacturer identifiers and the possibility of duplicate VINs being issued beginning with that model year.

⁴ Docket No. NHTSA-2007-27830-0030.

⁵ Organizations represented on the committee included: General Motors, International Truck and Engine Corporation, RL Polk & Company, The Hill Group, Freightliner Truck Division, American Association of Motor Vehicle Administrators, American Suzuki Motor Corporation, Harley Davidson Motor Company, Motorcycle Industry Council, Ford Motor Company, Transport Canada, National Insurance Crime Bureau (NICB), DaimlerChrysler Corporation, and NHTSA. Representatives from Clifford Thames IMS in the United Kingdom, the Highway Loss Data Institute, and Caterpillar, Inc. also participated.

⁶ Docket No. NHTSA-2007-27830-0031.

C. Notice of Proposed Rulemaking

NHTSA granted the petition by letter to the SAE dated March 7, 2006 and published a notice of proposed rulemaking (NPRM) in the Federal Register on October 2, 2007 (72 FR 56027). That notice proposed to adopt most, but not all of the changes to Part 565 suggested by SAE. The changes that were proposed in the NPRM were to:

• Expand to 60 years (the current 30 year period that is about to expire plus an additional 30 years) the period during which the VINs of any two vehicles subject to Part 565 may not be identical;

• Eliminate vehicle “make” from what needs to be communicated in, and decipherable from, the manufacturer identifier;

• Include “make” in what needs to be communicated in, and decipherable from, the second section of the VIN (positions 4-8) for all vehicles subject to Part 565;

• Change Part 565 so that alphabetic or numeric characters may be used in positions 4, 5 and 6 for passenger cars and multipurpose passenger vehicles and trucks with a gross vehicle weight rating of 4536 kg. (10,000 lbs.) or less (Currently positions 4 and 5 must be alphabetic and position 6 must be numeric for these vehicles. Either alphabetic or numeric characters have always been allowed in these positions for other vehicles covered by the standard);

• Require that VIN position 7 be alphabetic for passenger cars and multipurpose passenger vehicles and trucks with a gross vehicle weight rating of 4536 kg. (10,000 lbs.) or less (This position currently must be numeric for these vehicles. Either an alphabetic or numeric character can be used in this position for other vehicles covered by the standard);

• Make clear that Part 565 applies to Low Speed Vehicles (LSVs);

• Include in Part 565 specific attributes for LSVs that must be communicated in, and decipherable from, a VIN;

• Require that the VIN plate for LSVs be placed in the same location as passenger cars and multipurpose passenger vehicles and trucks with a gross vehicle weight rating of 4536 kg (10,000 lb) or less;

• Expand from “passenger cars” to “passenger cars, multipurpose passenger vehicles, low speed vehicles, and trucks” the vehicles that would be covered by the requirements of current Part 565.5—Motor vehicles imported into the United States;

• Add regulatory language to call attention to the fact that the number “9” in the third VIN position means that the vehicle is produced in sufficiently low quantities that a small manufacturer identifier is appropriate and positions 12-14 are therefore part of the manufacturer identifier;

• Change restraint system information that must be communicated in the VIN of a passenger car from “restraint system type” to “all restraint devices and their location” and require this same information for LSVs;

• Add to Part 565 a table with an explanatory note that indicates the digit that should appear in the ninth position of the VIN (This was requested to address the fact that the formula that is used in determining what appears in the ninth position is often calculated electronically and therefore does not produce the fractional remainders that are currently used in Part 565 to determine the digit that goes in position 9);

• Revise the “Year Codes for VIN” table in Part 565 to include character designations for years up to, and including, the year 2039, to account for the expanded period of time during which the current VIN system will remain in existence under the changes proposed;

• Change the contact details for the SAE in Part 565.

The changes that were requested by SAE that were not included in the NPRM or that were included in modified form were to:

• Specify in Part 565 that a positive identification style font face is a typeface permitted under the regulation's broad requirement for a san serif font typeface for a VIN.

• Set the dividing line between manufacturers requiring a large manufacturer identifier and those requiring a small manufacturer identifier at 900 vehicles produced annually. The NPRM proposed 1,000 vehicles as the level at which a manufacturer must begin using a large manufacturer identifier.

III. The Final Rule and Response to Public Comments

A. Summary of Public Comments

The agency received comments from the following: the Wisconsin Department of Transportation (WisDOT), the Oregon Department of Motor Vehicles (ODMV), Oregon Department of Environmental Quality (ODEQ), Daimler A.G. (Daimler), the Alliance of Automobile Manufacturers (Alliance), Advocates for Highway and Auto Safety (Advocates), the Recreation Vehicle Industry Association (RVIA), the National Insurance Crime Bureau (NICB), the New York State Department of Motor Vehicles (NYDMV), the New York State Department of Environmental Conservation (NYDEC), the Washington State Department of Ecology (WDE), General Motors (GM), Ford, Harley-Davidson Motor Company, BMW of North America, The Northeast States for Coordinated Air Use Management (NESCAUM), the Association of International Automobile Manufacturers (AIAM), the Truck Manufacturers Association (TMA), the National Association of Clean Air Agencies (NACAA), Ferrari, Prevost (a division of Volvo Group Canada, Inc.), the National Association of Trailer Manufacturers (NATM), and several individuals.

1. General and Issue Specific Support

All commenters supported revising the VIN regulation in one way or another, in some instances suggesting ways the VIN could be further expanded.

Amendments Aimed at Extending Life of Current System

The Alliance stated that it “fully supports both proposed amendments that are directly related to extending the utility of the VIN system beyond 2010.” AIAM and TMA also expressed support for the proposed changes, as did Ferrari and NATM with some exceptions and concerns. NYDEC offered its general support for the efforts “to ensure that there will be a sufficient number of unique manufacturer identifiers and VINs for the current 17-character VIN system for at least another 30 years.” Harley-Davidson also offered its “general support,” noting, “The regulatory proposal as written will provide a solution to the issue for the next few decades.” BMW supported NHTSA's efforts to revise Part 565, but had concerns, as did Daimler A.G., about the proposed changes for position 7 of the VIN. NICB offered its support, but expressed concern that the effective date should be November 1, 2008.

NESCAUM, which is an association of state air pollution control agencies in Connecticut, Maine, Massachusetts, New Hampshire, New Jersey, New York, Rhode Island, and Vermont, offered general support for the rulemaking and made suggestions concerning information that the VIN should communicate.

Specific suggestions, exceptions, and concerns expressed by those offering general support for the proposed changes to Part 565 are discussed below under the relevant heading.

Large Manufacturer Threshold

The Alliance and Prevost commented directly on this subject. The Alliance specifically supported the proposed change that would require a manufacturer to make 1,000 vehicles a year rather than the current 500 before a manufacturer will be considered a large manufacturer and be required to be issued and use a large manufacturer identifier. Prevost expressed a concern about manufacturers of buses with a GVWR greater than 4,536 kg (10,000 lb), stating that production of these manufacturers may vary significantly so the threshold between small and large manufacturer should be smaller than 500 with the possibility to use either a 3 or a 6 character WMI up to 1,000.

Alphabetic and Numeric Characters in Second Section of VIN

The Alliance specifically supported the proposal to allow the VINs of passenger cars and multipurpose passenger vehicles and trucks with a gross vehicle weight rating of 4536 kg (10,000 lb) or less to use either alphabetic or numeric characters in positions 4, 5 and 6, as opposed to only alphabetic characters in positions 4 and 5 and numeric characters in position 6. As noted above, some manufacturers did not agree with the proposed changes for position 7 of the VIN. AIAM objected to a requirement that “all restraint devices and their location” be decipherable from the VIN.

Moving “Make” From First to Second Section

The Alliance and AIAM supported moving vehicle “make” from the manufacturer identifier to the second section (positions 4-8) of the VIN. On the other hand, NATM believed that there is no need to assign or designate the “make” of a trailer.

Vehicle Characteristics for VINs of Low Speed Vehicles (LSVs)

Advocates supported the proposal to include in Part 565 a list of vehicle attributes that must be communicated in, and decipherable from, the VINs of LSVs.

Costs Resulting From Software Modifications

NICB said its software can be modified to accommodate the proposed changes “without undue burden or expense.”

2. Suggested Changes to the Information To Be Communicated by the VIN

Comments:

Several commenters suggested adding various kinds of information to what is currently required in 49 CFR Part 565 to be communicated in, and decipherable from, a VIN.

ODMV, ODEQ, WDE, NESCAUM, and NACAA all urged NHTSA to incorporate into the VIN a means by which States could determine whether or not a vehicle is certified to meet California emission standards. NYDEC urged a more detailed approach, asking for not only an indication of the emission standard to which a vehicle is certified, but also the level of certification.

NYDEC and NYDMV also suggested that a vehicle's fuel type or type of hybrid technology be communicated through the VIN to help support State inspection and maintenance programs. In some cases, information that is already included in the VIN and that relates to the administration of State inspection and maintenance programs, is not treated consistently by manufacturers and is, therefore, hard to access, according to NYDEC.

Advocates said “the VIN requirements should also include a means for encoding the type of power source that the engine can utilize.”

Yuli Chew, an individual submitting comments, suggested that the seventh digit in the VIN be used to designate emission certification and offered a detailed chart of proposed characters to designate various emission certifications. He also proposed that the eighth digit be used to indicate engine type and similarly offered a detailed chart of engine types and characters to represent them.

WisDOT asked that the VIN include some method for determining the maximum speed capability of low-speed motor-driven cycles, such as mopeds. Whether or not a cycle can travel at speeds greater than 30 mph impacts driver training requirements in Wisconsin and whether passengers may be carried on the cycle. WisDOT provided a list of 28 other States in which speed of the cycle determines its classification and related requirements. WisDOT also noted that the Uniform Vehicle Code contains a similar distinction.

NESCAUM and NACAA recommended that the information communicated by the VIN include motor vehicle test group and engine family, as defined by the U.S. Environmental Protection Agency in 40 CFR Part 86. The information that would be available to States as a result of this, NESCAUM said, “could be used to support air quality monitoring efforts.”

NESCAUM and NACAA also asked for several additional changes to the information a VIN must communicate. They asked NHTSA to change the definition of “engine type” that now appears in 49 CFR 565(d). They maintained that the effect of the definition's second sentence, which specifically calls for a VIN to represent “the specific make and manufacturer” of an engine if it powers a “passenger car or multipurpose passenger vehicle, or truck with a gross vehicle weight rating of 4536 kg. (10,000 lbs.) or less” is to exclude Class 3 through 8 heavy-duty trucks from the requirement to report engine manufacturer and make. The commenters said this information would make it easier for States to determine the emissions and fuel economy characteristics of their heavy-duty truck fleets.

NESCAUM also asked that the VIN identify the GVWR rating class for any vehicle in Class G-2 or above, saying this information would greatly simplify States' efforts to identify whether a particular vehicle is subject to its emissions inspection program and the type of test required under that program. Finally, NESCAUM urged that the VIN requirements for Class 3 through 8 heavy-duty vehicles incorporate the exact gross vehicle weight, a change it said would enable States to better characterize their heavy duty fleets.

Agency Analysis and Response:

The primary purpose of the VIN system is to assure a unique identifier for each vehicle sold in the United States and, in so doing, to deter theft and facilitate vehicle recall campaigns. Deterring theft reduces the number of drivers on the road who are more likely to operate motor vehicles in an unsafe manner. Recall campaigns are conducted to remedy defects related to motor vehicle safety and incidents of noncompliance with Federal motor vehicle safety standards that are determined to exist in a vehicle. The current VIN system has for nearly 30 years fulfilled the need for unique vehicle identifiers and with today's final rule should continue to do so for at least the next 30 years.

The agency is not adopting at this time amendments to address any of the recommendations for the VIN to include additional information elements, not because those recommendations lack merit, but instead because there is a pressing need for today's rule to be in place to assure the uninterrupted continuation of the VIN system.

The agency acknowledges that the additional information requirements recommended in the comments, such as those relating to California emission certification, reflect the fact that there has been little change over the decades in the information that must be conveyed by a VIN despite the development of new circumstances that may lend themselves to the inclusion of new or different information. As such, the agency plans to initiate a separate comprehensive review focused on the information requirements of the VIN system. This will address whether those requirements should be changed, and, if so, how those changes should be made.

3. All Restraint Devices and Their Location

Comments:

Several comments were received concerning the proposal to change language in Table 1 of 49 CFR 565.6(b) relating to the restraint system information required to be communicated in the VIN of passenger cars. The relevant language currently reads, “Passenger car: Line, series, body type, engine type and restraint system type.” The replacement language proposed by the petitioner and included in the NPRM reads, “Passenger car: Make, line, series, body type, engine type, and all restraint devices and their location.”

The agency also requested “comments on whether this information should be required for all passenger vehicles, not just passenger cars.”

The Alliance opposed this proposed change and suggested that the original language be retained. It said the proposed language would create an “unnecessary and unjustified burden on manufacturers” because each running change relating to a vehicle's restraint system could require a new VIN.

The AIAM also opposed the proposed change, on the basis that evolving combinations of restraint devices could “require development of a complex coding scheme which may ultimately prove impractical due to the number of possible combinations of these elements.” Ferrari also opposed the proposed language change citing the same argument as that offered by AIAM.

Advocates supported both the proposed language change and extending the information requirement beyond passenger cars to include “all passenger and non-passenger light vehicles with a gross vehicle weight rating (GVWR) of 4,536 kilograms (10,000 pounds) or less,” on the basis that this information would be valuable for safety research and data analysis.

Agency Analysis and Response:

The current language in Part 565 was sufficient when the range of restraint equipment that was either required or was available in the marketplace consisted primarily of seat belts and front seat airbags. Today, in addition to seat belts, front seat air bags are mandatory and restraint equipment technology has advanced to the point where there are many variations both in required equipment and in equipment, such as side air bags, that is offered in the marketplace. The new language is intended to capture and make available, through a vehicle's VIN, more complete and accurate information regarding occupant restraint in each vehicle manufactured for sale in the U.S.

The agency does not agree with the Alliance and the AIAM that this change is overly burdensome. The agency is aware that some major manufacturers represented by these two organizations are already submitting comprehensive restraint related VIN deciphering information to NHTSA under 49 Part 565.7(c) that would comply with the amended requirements. This suggests to the agency that if a manufacturer knows well in advance of restraint system changes that will occur during a vehicle's production run, creating a VIN to account for those changes would be no more difficult than accounting for the different engines that can be installed in a particular vehicle model. In those cases where an unanticipated running change in a vehicle's restraint system occurs, a company could retain the VINs of the vehicles involved and provide NHTSA with revised VIN deciphering information as provided in 49 Part 565.7(c). In such a case, vehicles numbered sequentially above a certain number in the last digits of the fourth section of the VIN would have the revised restraints devices and locations, which could be indicated in the company's amended deciphering information.

The agency agrees with Advocates that there is value in having the VINs of certain vehicles in addition to passenger cars communicate the type and location of the restraint devices with which those vehicles are equipped . The agency is requiring the VINs of passenger cars, multipurpose vehicles, and trucks with a gross vehicle weight rating of 4,536 kilograms (10,000 pounds) or less to communicate that information.

4. VIN Position 7

Comments:

The NPRM proposed that for passenger cars and multipurpose passenger vehicles and trucks with a gross vehicle weight rating of 4536 kg (10,000 lb) or less the seventh position of the VIN be changed from a numeric character to an alphabetic character.

Daimler and BMW asked that the seventh position be either numeric or alphabetic, with BMW indicating this would “minimize the cost impact” and achieve the same goal. Ferrari called the proposed change for position 7 “acceptable,” but asked why position 7 could not be either numeric or alphabetic.

Daimler also asked that the manufacturer be allowed to choose “one of the five positions to be changed from alphabetic to numeric or vice versa.” (Daimler did not specify the five characters to which it was referring. The agency assumes the company was referring to VIN positions 4 through 8, the positions referred to in Part 565 as the second section, which includes position 7.)

The Alliance and GM both specifically supported the proposed change from numeric to alphabetic characters in position 7. In addition, the Alliance asked that a footnote be included in Table VII—Year Codes for VIN in 49 CFR Part 565. That footnote would read, “If position 7 is numeric, the Model Year (in position 10) is 1980-2009; if alphabetic, the Model Year (in Position 10) is 2010-2039.” AIAM and Ferrari supported this proposal.

Prevost suggested the addition of a footnote to Table VII as well. It asked that the footnote communicate the fact that since position 7 may be alphabetic or numeric for vehicles over 10,000 pounds and certain other types of vehicles covered by Part 565, such as trailers, that character does not indicate the 30-year period in which the vehicle was manufactured.

Agency Analysis and Response:

The reason for the proposed change in position 7 of the VIN was not only to create additional permutations to increase the number of available VINs, but also to enable VIN users to determine in which 30-year period a vehicle was manufactured. The suggestion by Daimler and BMW that manufacturers have the option of using either an alphabetic or numeric character in position 7 would eliminate a VIN user's ability to make this determination and would create considerable confusion for VIN system users. (Daimler's suggestion that the manufacturer have the option of choosing which character in the second section of the VIN to change from alphabetic to numeric or vice versa, would be even more confusing to VIN users). Under the approach suggested by Daimler and BMW, VIN users would be unable to use the seventh VIN character to determine the model year of makes and models of vehicles manufactured in both the 30 year span of the current VIN system and in the 30 year span contemplated for the VIN system established by today's final rule. While having the option of either an alphabetic or numeric character in position 7 might “minimize the cost impact” on manufacturers as BMW suggests, it would also very likely add costs to other users of the VIN system and not be as efficient as having position 7 clearly indicate the 30 year period in which a vehicle was manufactured. The agency is therefore adopting the proposal in the NPRM to require that only an alphabetic character be allowed in VIN position 7 for passenger cars and multipurpose passenger vehicles and trucks with a gross vehicle weight rating of 4536 kg. (10,000 lbs.) or less under the revised Part 565.

The agency agrees with the Alliance, GM and Prevost that a footnote to Table VII will further clarify the purpose of position 7 being an alphabetic character. The agency is therefore adding a footnote to Table VII, but is adopting language different from that proposed by the Alliance and GM to both further clarify the role of VIN position 7 and to make clear, as suggested by Prevost, that the requirement for an alphabetic character in position 7 applies only to passenger cars and multipurpose passenger vehicles and trucks with a gross vehicle weight rating of 4536 kg (10,000 lb) or less. The footnote will now read, “For passenger cars, and for multipurpose passenger vehicles and trucks with a gross vehicle weight rating of 4536 kg (10,000 lb) or less, if position 7 is numeric, the Model Year in position 10 of the VIN refers to a year in the range 1980-2009. If position 7 is alphabetic, the Model Year in Position 10 of the VIN refers to a year in the range 2010-2039.”

5. Off Road Vehicles

Comment:

NACAA said the VIN system should be extended to “nonroad vehicles (primarily those for recreational use).”

Referring to a numbering system for off-road vehicles named, “PIN: Product Identification Number System for Off-Road Recreation Vehicles,” NYDMV noted that identifiers under this system will always differ from VINs in the ninth position. A VIN will contain either a number or an X. A PIN will contain a letter and never an X. NYDMV suggested language for Part 565 that would prohibit VINs from duplicating PINs for off-road vehicles.

Agency Analysis and Response:

NHTSA has authority to regulate only vehicles that are manufactured primarily for use on public streets, roads, and highways. Jurisdiction to regulate vehicles of the type discussed by NACAA rests with the U.S. Consumer Product Safety Commission, which at this time does not have a system in place to provide identifiers for off-road vehicles.

As indicated by the NYDMV, a voluntary system has been created and is operating to address the need for identifiers for off-road vehicles. That system is administered by SAE International, the same organization that administers the VIN system.

NHTSA does not have the authority to extend the VIN system to off-road vehicles. It therefore did not address the issue in the NPRM and is not making this suggested change in this final rule.

NHTSA is also not including language in Part 565 to prohibit a VIN from duplicating a PIN as suggested by NYDMV. We do not regulate PINs. Additionally, the agency believes that if, as the NYDMV indicates, a PIN has an alphabetic character and never an X in its ninth position, a VIN should never duplicate a PIN. This is because a VIN is required to have either a numeric character or an X in that position.

6. Trailers

NATM, which represents companies that manufacture trailers with gross vehicle weight ratings (GVWR) of 26,000 lb or less, submitted detailed comments addressing issues unique to trailer manufacturers. RVIA submitted brief comments on behalf of its trailer manufacturer members concurring with the NATM comments. NATM generally supported the proposed changes to Part 565, but raised the following two concerns.

Character Prescriptions as They Relate to Trailers

First, NATM noted that Section 565.6(b) currently applies to “passenger cars and * * * multipurpose passenger vehicles and trucks with a gross vehicle weight rating of 4536 kg (10,000 lbs.) or less'' insofar as it identifies the characters that must be used in specific positions of the second section of the VIN (positions 4-8). NATM further noted, “There is, however, no mention of what characters, alphabetic or numeric, manufacturers of other types of vehicles—larger trucks, buses, trailers, and motorcycles—are required or permitted to use in those same positions. By its silence, we assume Section 565.6(b) allows manufacturers of those other types of vehicles to use either an alphabetic or a numeric character, at their election, in all four of the first four positions in Section 2 of the VIN, positions 4, 5, 6, and 7. The current regulation goes on to state: ‘The fifth character [position] may be either alphabetic or numeric.’ It is not clear whether this statement is intended to govern VIN use only in the three vehicle types specified in the preceding sentence, namely automobiles, multipurpose passenger vehicles, and light-duty trucks, or whether it is intended to apply to all motor vehicle types to which Part 565 applies.”

Agency Analysis and Response:

The characters that may be used in a vehicle's VIN are identified in § 565.4(g). These are the characters that may be used in a VIN unless there are specifications elsewhere in Part 565 as to the characters that may be used in a particular VIN position.

The NATM's interpretation of the current version of Part 565.6(b) is correct. The specifications in the current version of this section as to the type of characters that must appear in specific positions of the second section of the VIN apply only to the vehicles cited—passenger cars and multipurpose passenger vehicles and trucks with a gross vehicle weight rating of 4536 kg (10,000 lb) or less—not larger trucks, buses, trailers, and motorcycles. Therefore, the current regulation allows manufacturers of larger trucks, buses, trailers, and motorcycles to use either an alphabetic or a numeric character in all four of the first four positions in the second section of the VIN, positions 4, 5, 6, and 7. Position 8 under the current regulation may be either an alphabetic or numeric character for any type of vehicle. Nothing will change for these vehicles under this final rule. In this final rule, only position 7 will be limited to an alphabetic character for passenger cars, multipurpose passenger vehicles and trucks with a gross vehicle weight rating of 4536 kg (10,000 lb) or less. All other positions in the second section of the VIN will be allowed to have either alphabetic or numeric characters no matter what type of vehicle is involved and position 7 may be alphabetic or numeric for larger trucks, buses, trailers, and motorcycles.

Trailer “Make”

NATM's second concern was over NHTSA's intention to move vehicle “make” from being a characteristic that needs to be communicated in the manufacturer identifier to a characteristic that needs to be communicated in the second section of the VIN. “Unlike automobiles, multipurpose passenger vehicles, and light-duty trucks, light-duty and medium-duty trailers generally do not have separately assigned or designated ‘makes,’ much less undergo frequent changes in ‘makes,’ ” NATM said. The NATM further stated that under the current regulation, the company name in the manufacturer identifier is, in essence, the make of the trailer.

In addition to commenting that “make” is not a concept used in the trailer industry, NATM expressed concern that requiring “make” in the second section of the VIN would require trailer manufacturers to give up what it characterized as an “undesignated” position in the second section of the VIN to communicate the “make.” That position, NATM said, is currently generally used in the trailer industry to indicate the GVWR of trailers, which is not an information item that Part 565 requires for trailers in the second section of the VIN.

Agency Analysis and Response:

The agency's experience with VINs for trailers generally reflects the NATM comments. That is, for most trailer manufacturers, the manufacturer's name has been the equivalent of the “make” of the trailer, although there are surely instances in which information that is arguably a “make” has been communicated. In most cases, only the manufacturer's name has been communicated in the manufacturer identifier of trailer manufacturers under the current Part 565. There has been a tacit recognition of what NATM observed, that the manufacturer's name is the equivalent of the “make.” The manufacturer's name has simultaneously fulfilled the requirement that the manufacturer identifier communicate the manufacturer and the “make.”

The agency has decided not to make an exception for trailers and to include “make” in the information that must be communicated in, and decipherable from, the second section of the VIN for trailers.

It seems clear from the NATM comments that generating VINs for trailers is relatively straightforward in comparison to doing so for other types of vehicles subject to Part 565. By referring to one of the positions in the second section of the VIN as an “undesignated” position, NATM suggests that trailer manufacturers use each of the positions in the second section of the VIN to represent one of the four information items currently listed in Part 565 as having to be communicated in, and decipherable from, the second section of the VIN. This approach leaves one position of the VIN's second section unused or “undesignated” as the NATM's comments state. According to NATM, this unused position is widely used in the trailer manufacturing industry to designate GVWR. The NATM comments suggest that trailer manufacturers fear that if they are required to communicate a vehicle's make in the second section of the VIN, even though the manufacturer name is the make for most trailer manufacturers, they will have to use the position now widely used for GVWR to indicate the manufacturer's name for a second time (the manufacturer's name will continue to be required in the manufacturer identifier).

The agency notes that one option available to trailer manufacturers whose manufacturer name is the same as the make is to continue to use a character in the position that is now, by practice, used for GVWR. In the information for deciphering the VIN submitted to NHTSA under § 565.7(c) trailer manufacturers can simply indicate that if any character appears in that position, then the make name is the same as the manufacturer name.

It should be noted that if a trailer manufacturer produces 33 or fewer variations of trailers (i.e. combinations of make, type of trailer, body type, length and axle configuration—the information items required for trailers in the second section of the VIN as revised), this information could be communicated by a single character in one position of the second section of the VIN. What that single character refers to would simply have to be indicated in the information provided to NHTSA by the manufacturer under § 565.7(c). In fact, a trailer manufacturer could communicate up to 132 different variations in the trailers it manufactures and use only four of the five positions in the VIN's second section by taking full advantage of the 33 characters available for each of those positions and submitting to NHTSA a full and complete description of what a given character means if it appears in a given position. A “B” in the first position of the second section, for example, could stand for the make, type of trailer, body type, length and axle configuration of one variation of trailer made by a given manufacturer while a “C” could stand for that same information relating to a different trailer.

The NATM comments made the agency aware of the fact that there is no current need to include low speed vehicles (LSVs) in the vehicles that must use an alphabetic character in position number 7 of the VIN as required by today's final rule. These vehicles will now be treated the same as larger trucks, buses, trailers, and motorcycles.

7. Modification in Gross Vehicle Weight Rating Classes

Comment:

NESCAUM asked for a cha nge in “Table II—Gross Vehicle Weight Rating Classes” of 49 CFR Part 565.6(b) by adding a break point at 8,500 pounds in one of the classes listed to distinguish whether or not a truck is light or heavy duty.

Agency Analysis and Response:

The classification system in Table II of Part 565 has been in existence for nearly 30 years and a great deal of data has accumulated in various places based on this system. The agency's experience with this classification system suggests that the change advocated by NESCAUM could have a significant effect on the various data systems that are built on this system. Any change to this system would require a complete and thorough analysis of the possible impact of that change on these data systems. This was not an issue addressed in the petition that initiated this rulemaking or in the NPRM. The agency is not acting on this recommendation at this time, not because the recommendation is deemed to lack merit, but instead because of the need to publish this final rule promptly. This issue will be part of the comprehensive review of the VIN information requirements discussed in “2. Suggested Changes to the Information to be Communicated by the VIN.”

8. Supply of Manufacturer Identifiers

In the NPRM, NHTSA specifically asked for comments “on the likelihood and implications of manufacturers releasing previously-issued identifiers that are no longer in use.”

Comments:

On this issue the Alliance expressed the understanding that, “this proposal would require no change to currently assigned and used WMIs, and would only affect WMIs assigned in the future. Manufacturers will be able to continue to use the WMIs they are currently using in production or that have been assigned to them.” The Alliance also observed that “a general review of assigned and reserved WMI's that the Society of Automotive Engineers (SAE) has requested the International Organization for Standardization (ISO) to undertake should ensure adequate availability for future needs.”

GM said, it “does not anticipate manufacturers releasing previously assigned WMIs; however, the proposed modification will reduce the need for additional WMIs allocation to manufacturers.”

Ford said it anticipates many manufacturer identifiers that are “assigned to countries with little or no current vehicle manufacturing will be reassigned to other countries, thus resolving the potential shortage” of manufacturer identifiers. Ford further indicated that “many organizations, including law enforcement, rely on consistency” in manufacturer identifiers to identify vehicle manufacturers. Ford said it does not plan to relinquish manufacturer identifiers that are assigned to that company “at this time.”

Ferrari stated, “Regarding the possibility to distribute old manufacturer identifiers no longer in use, we believe that they should be retained by the same manufacturer to avoid possible confusion in case they are given to other manufacturers.”

Agency Analysis and Response:

The agency does not see a need to take any action at this time beyond adopting the changes discussed in this final rule. As previously noted, vehicle make has been moved from the manufacturer identifier to the second section of the VIN. This should substantially reduce the need to issue new large manufacturer WMIs, thus extending the remaining supply of 400-450 of these manufacturer identifiers.

In addition, the agency, through its contract with SAE for the issuance of manufacturer identifiers, has begun the process of identifying companies with large manufacturer identifiers that are no longer in business so that those identifiers may be returned to the system. The agency is also identifying companies that were issued large manufacturer identifiers that, through publicly available data, the agency knows do not produce more than 500 vehicles a year, the current threshold for being considered a large manufacturer, or 1,000 vehicles a year, the threshold in this final rule, under Part 565. The agency anticipates that a number of large manufacturer identifiers will be returned to the system as a result of this process as well.

9. Posident Typeface

Comments:

While NHTSA did not propose any specific action relating to the “positive identification style”/“posident” typeface, the subject was addressed in the NPRM and two commenters specifically commented on it.

Citing the interpretation noted in the NPRM, which specifically states that the “positive identification style”/“posident” typeface is permitted under Part 565, GM indicated that it plans to continue its use of the typeface in its VIN marking.

Harley-Davidson suggested that language in the NPRM regarding the “positive identification style”/“posident” typeface “could be interpreted to mean that NHTSA was not inclined to encourage use of the posident font.” Additionally, Harley-Davidson said the terms “positive identification style font” and “posident” refer to the same thing and noted that it uses the typeface on some frame stampings, although not in its VIN markings.

Agency Analysis and Response:

In 1978, NHTSA issued an interpretation stating that there is no bar to using the “posident” typeface in a VIN under Part 565. That interpretation may be found at http://isearch.nhtsa.gov/gm/78/nht78-2.2.html. The agency is neither encouraging nor discouraging the use of this typeface. The agency has not changed its position with regards to this interpretation. The “posident” typeface is therefore still permitted under the amendments to 49 CFR Part 565 issued today.

10. Location Change for Vehicle Make: Possible Impact on State Regulatory Programs

Comment:

NYDEC said it is unclear if vehicle make would become more difficult to obtain if the agency's proposal is finalized as written. It added, “Vehicle make must be readily available to State regulatory programs from the VIN.”

Agency Analysis and Response:

The American Association of Motor Vehicle Administrators (AAMVA) was a member of the SAE committee that petitioned NHTSA to commence this rulemaking. If moving the vehicle make from the first to the second section of the VIN has an impact on State regulatory programs, the AAMVA would presumably have discussed that matter with the committee. The agency does not believe that moving vehicle make from the first to the second section of the VIN will have any impact on the availability of this information to state programs. The agency is therefore taking no action today in response to this comment.

11. Alternative Characters

Comment:

Harold R. Brink, a private individual, submitted comments recommending that symbols, such as “!@‸%&,” be used in the VIN to expand the number of unique VINs available.

Agency Response

We do not believe that it is necessary to adopt the use of symbols at this time. The changes proposed in the petition and those adopted in this final rule provide a sufficient number of unique VINs to assure the continued existence of the current VIN system, with the use of only numeric and alphabetic characters, for at least 30 additional years.

12. Direction VIN Plate Should Face

Comment:

NYDMV asked that Part 565.4(f) be amended to require that the characters of the VIN plate face the front of the vehicle because it has encountered grey market vehicles with the VIN facing the driver, which, in some cases, makes the VIN difficult to read.

Agency Analysis and Response:

Section 565.4(f) specifies the approximate location of the VIN, the minimum size for the type, and the requirement that the VIN must be “readable.” The section does not prescribe the direction in which the VIN plate must face. The agency is not aware of driver facing VIN plates creating unworkable difficulties in any broad category of other situations. NYDMV acknowledged in its comments that even in cases of grey market vehicles with driver facing VIN plates it has encountered, the VIN remains readable, although with some difficulty. As such, the agency is not specifying the direction in which the VIN plate must face in this rule.

13. Companies That Vacillate Between High-Volume and Low-Volume Production

Comment:

Prevost described a situation that it indicated may be unique to bus/motor coach manufacturers. Because there are so few manufacturers in this category and the market is relatively small, a manufacturer, at least under the current Part 565 with its 500 vehicle dividing line between small and large manufacturers, may one year be a small manufacturer and the next a large manufacturer. As a small manufacturer under current Part 565, it is required to use a six character manufacturer identifier. As a large manufacturer, it is required to use a three character manufacturer identifier. Prevost recently became a large manufacturer under the current Part 565 and is concerned that it might have to return to using a small manufacturer identifier and change its whole VIN structure. It urged that the dividing line between low-volume manufacturers and high-volume manufacturers be set at a threshold lower than the current 500 vehicles for manufacturers of vehicles greater than 4536kg GVWR.

Agency Analysis and Response:

Prevost is principally concerned that it have one consistent approach to VINs and not have to switch between low-volume manufacturer VINs and high-volume manufacturer VINs. The agency believes that raising the threshold between low-volume manufacturer and high-volume manufacturer to 1,000 vehicles will address the situation described by Prevost, at least for some bus/motor coach manufacturers. However, the agency believes that if we lower the threshold between low-volume manufacturers and high-volume manufacturers, such an action would jeopardize the limited supply of manufacturer identifiers for high-volume manufacturers, which was one of the driving concerns for the petition that initiated this rulemaking and for the agency's proceeding with this rulemaking. If, after the implementation of this final rule, there continue to be manufacturers that vacillate between low-volume and high-volume status, the best place to address this will be in the administration of the VIN system. In this way, NHTSA can better monitor the supply of large manufacturer identifiers and be sure that they are issued only in situations where it is appropriate to do so.

14. Effective Date of the Rule

Comments:

There were numerous comments concerning the effective date of the final rule, particularly the need for the final rule to be implemented quickly with a clear indication that it applies to all model year 2010 vehicles. One commenter said the revised Part 565 should apply to model year 2010 vehicles regardless of when they are manufactured.

The Alliance, AIAM, and Ferrari said the rule should begin with 2010 model year. The Alliance noted, “Some manufacturers are already approaching the deadline to implement changes to VIN structure for model year 2010.” It suggested that there be a period, applicable to the 2009 model year, during which a manufacturer would be allowed to comply with either the old or new system. TMA also urged quick adoption.

NICB provided detailed comments that focused entirely on the issue of effective date. It said the changes to the VIN system are needed “urgently” and that a failure to implement the new structure within the next year would lead to “serious consequences.”

NICB said NHTSA's VIN regulation “will soon allow more than one vehicle to have the same Vehicle Identification Number (VIN). If the agency allows the VIN to become anything other than a truly unique identifier, it will cripple enforcement of the Anti-Car Theft Act, the Motor Vehicle Safety Act, the Imported Vehicle Safety Compliance Act and a host of other Congressional mandates to protect Americans from car theft, salvage fraud and death or injury on the nation's highways. It would also jeopardize counter-terrorism efforts, especially the investigation of car bombings.” NICB urged the immediate adoption of a final rule with an effective date of November 1, 2008.

NICB said, “NHTSA's proposed effective date for MY 2010 cars—September 1, 2009—is far too late because VINs for any new model year get assigned months before new cars arrive in dealers' showrooms. NICB's Shipping and Assembly File, which includes nearly all motor vehicles produced for sale in the United States, typically receives from manufacturers some pre-production VIN assignments before the end of the calendar year that is two years before the model year. In other words, NICB will begin to receive assignments for MY 2010 cars in November 2008. In any case, manufacturers assign VINs toward the beginning of the production process, not on their date of sale, so NICB will receive large numbers of MY 2010 VINs by April, 2009, in anticipation of consumer sales in September, 2009.” Failure to have a new regulation in effect by November 2008 “will cause unneeded confusion, expense, time to obtain and add decoding for two MY 2010 formats and possible computer conflicts with VIN decoding for MY 2010 vehicles,” NICB said.

Ford cautioned that delay of publication of the final rule will cause the company to incur costs and/or cause delays in the manufacturing of vehicles assigned VINs under the current Part 565. The company noted that under a U.S. Environmental Protection Agency regulation, 40 CFR 86.082-2, 2010 model year vehicles may be introduced as early as January 1, 2009 and production may begin even earlier. Ford also noted that adequate lead time is needed so that Transport Canada can modify CMVSS 115, which specifies the current Part 565 VIN structure and content.

Agency Analysis and Response:

The effective date of this final rule is two-fold. It becomes mandatory in one year. That is, all vehicles manufactured on or after the date one year from today must have VINs that meet the requirements of this final rule. However, it also applies to vehicles manufactured 180 days after the date of publication of this rule that have the letter code “A” or “B” in the 10th position of the VIN. Its application to any particular vehicle based on a manufacturer using the letter “A” or “B” in the 10th position of the VIN under Part 565 allows for implementation of the new VIN requirements earlier than 1 year.

The effective date will be different for different manufacturers and different vehicles manufactured by the same manufacturer because of the different times those vehicles are manufactured within the same model year. In 1 year VINs will have to conform to the new VIN requirements of this final rule. Before the 1 year date, a VIN will have to conform to the new requirements if there is a letter “A” or “B” in the 10th position. Under the current Part 565, a chart indicates the numbers and letters that are required in the 10th position for particular model year vehicles. The 2010 model year is the first time a character in this chart, in this case an “A”, would be repeated in the 10th position, which under the current Part 565 allows for both the possibility of duplicate VINs and a situation in which a VIN user would not be able to tell whether a vehicle was manufactured as a 2010 model year vehicle or a model year 30 years earlier when “A” was last used in the 10th position. Under the amended Part 565, however, an “A” or a “B” in the 10th position must be newly accompanied by an alphabetic character in the 7th position, which ensures that the VIN will not be duplicative of a VIN issued for model year vehicle 30 years ago. The agency has therefore adopted the use of “A” or “B” in the 10th position as the trigger by which a manufacturer must apply the new requirements of today's rule. These new requirements will both avoid duplicate VINs and enable a VIN user to distinguish the 30 year period in which a vehicle was manufactured.

NHTSA very much appreciates the concerns expressed over the need for the timely publication of this final rule. We believe the effective date of the rule gives regulated parties ample time to make the changes necessary to comply with the revised requirements of Part 565.

The current VIN requirements need to be retained for an interim period during the changeover to the new VIN requirements, for the benefit of any manufacturer that might be using the current Part 565 VIN regulation. The agency is moving the current VIN requirements to a subpart in part 565, and applying that regulation to vehicles manufactured between today and a date 1 year from today's date that do not have an “A” or “B” in the 10th position of the VIN.

B. Summary of Amendments Adopted in This Final Rule

• The current 30 year period during which the VINs of any two vehicles subject to Part 565 may not be identical has been extended to 60 years.

• A vehicle's “make” must now be communicated in, and decipherable from, the second section of the VIN (positions 4-8), rather than being included in the manufacturer identifier.

• For passenger cars and multipurpose passenger vehicles and trucks with a gross vehicle weight rating of 4536 kg. (10,000 lbs) or less, positions 4, 5, and 6 may now be either alphabetic or numeric.

• For passenger cars and multipurpose passenger vehicles and trucks with a gross vehicle weight rating of 4536 kg (10,000 lbs.) or less, VIN position 7 must now be alphabetic. Numeric or alphabetic characters continue to be permitted in position 7 for all other vehicles.

• The “Year Codes for VIN” table in Part 565 has been revised to include character designations for years up to, and including, 2039 to account for the expanded period of time during which the current VIN system will remain in existence under this final rule.

• Vehicle attributes to be communicated in, and decipherable from VINs of LSVs are included in Part 565, which now clearly covers LSVs.

• Restraint information is added to multipurpose passenger vehicle VINs.

• The VINs of LSVs must be in the same location as VINs for passenger cars, multipurpose passenger vehicles and trucks with a gross vehicle weight rating of 4536 kg (10,000 lb) or less.

• The vehicles to which Part 565.5—Motor vehicles imported into the United States applies have been expanded from “passenger cars” to “passenger cars, multipurpose passenger vehicles, low speed vehicles and trucks of 4536 kg or less GVWR.”

• Language has been added to Part 565 to indicate that the number “9” in the third VIN position means that the vehicle is produced in sufficiently small quantities that a low-volume manufacturer identifier applies and that positions 12-14 are therefore part of the manufacturer identifier.

• A table and an explanatory note have been added to Part 565 that specifically indicates the digit that should appear in the ninth position of the VIN.

• New definitions have been added for “low-volume manufacturer,” “high-volume manufacturer,” and “manufacturer identifier.”

• The dividing line between high-volume and low-volume manufacturers, which determines whether a three character or six character manufacturer identifier is required, has been set at 1,000 vehicles, with those manufacturers manufacturing 1,000 or more vehicles considered to be high-volume manufacturers.

• The contact details for the SAE in Part 565 have been revised.

IV. Rulemaking Analyses and Notice

Executive Order 12866 and DOT Regulatory Policies and Procedures

This rulemaking document was not reviewed by the Office of Management and Budget under E.O. 12866. It is not considered to be significant under E.O. 12866 or the Department's Regulatory Policies and Procedures (44 FR 11034; February 26, 1979). This document changes the VIN requirements that for the most part provide manufacturers greater flexibility in meeting VIN requirements:

• The rule helps to sustain the supply of unique available manufacturer identifiers for large manufacturers, because they will no longer need to request additional manufacturer identifiers for new vehicle makes that they produce.

• The rule permits the use of either alphabetic or numeric characters in many positions of the VIN.

• The rule permits low-volume manufacturers to manufacture 999 vehicles (increased from 499) before a new high-volume manufacturer identifier is required.

• The rule reduces or eliminates the waiting period before the time a manufacturer identifier or VIN can be used.

• The rule adds low-speed vehicles to the list of vehicles to which Part 565 applies, and adds attributes of LSVs that should be identified by an LSV's VIN.

Vehicle manufacturers, including those of low-speed vehicles, are already required to label their vehicles with a VIN and report to NHTSA information relating to deciphering the characters in the VIN. This rule does not substantially change those requirements. The minimal impacts of today's amendments do not warrant preparation of a regulatory evaluation.

NHTSA cannot quantify direct safety impacts of this rule. However, NHTSA believes that this rule will have a beneficial effect on safety in that it ensures the continued integrity of the VIN system (ensuring that vehicles will continue to be uniquely identified).

There may be some cost impacts in changing data systems to account for features of the VIN that are different than those of current VINs (e.g., the use of alphabetic and numeric characters in certain VIN positions). However, NHTSA does not believe that the costs will be significant. In fact, manufacturers of most vehicles less than 10,000 lb GVWR will need to do nothing more initially than change their systems so that an alphabetic character appears in position 7 of the VIN to comply with today's rule. For all other VIN positions, these manufacturers may continue to use current systems to generate VIN characters using the old character limitations. Because of the change from a numeric character to an alphabetic character in position 7, unique VINs will be assured. These manufacturers will be able to adjust their systems as needed over time to be able to generate VIN characters under the expanded options for characters contained in the final rule. This ability to adapt slowly to the final rule will further ameliorate the cost impact of the final rule.

The members of the committee representing operators of data systems that utilize the 17-character VIN system indicated that there would be some costs involved in making software and other modifications to data systems, but that those costs would be extremely small compared to what would be required to deal with an expanded number of VIN characters. The petition noted that “any increase in the quantity of characters beyond the current seventeen would require massive software changes to all programs that use a motor vehicle VIN, and would affect not only automotive OEM's, but also state DMV's, local governments, insurance companies, law enforcement agencies, research companies, NHTSA's National Center for Statistics and Analysis, as well as others.”

Regulatory Flexibility Act

Pursuant to the Regulatory Flexibility Act (5 U.S.C. 601 et seq., as amended by the Small Business Regulatory Enforcement Fairness Act (SBREFA) of 1996), whenever an agency is required to publish a notice of proposed rulemaking or final rule, it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)). No regulatory flexibility analysis is required if the head of an agency certifies the rule will not have a significant economic impact on a substantial number of small entities. SBREFA amended the Regulatory Flexibility Act to require Federal agencies to provide a statement of the factual basis for certifying that a rule will not have a significant economic impact on a substantial number of small entities.

NHTSA has considered the effects of this rule under the Regulatory Flexibility Act. I certify that this rule will not have a significant economic impact on a substantial number of small entities. Any small vehicle manufacturers that stand to be affected by this rule are already required to provide a VIN and provide information to NHTSA that enables the VIN to be deciphered. Manufacturers of low-speed vehicles will have to make sure that the VIN reflects the LSV features newly added to Table 1 of Part 565, but the burden associated with that responsibility should be negligible and will not result in a significant economic impact.

Executive Order 13132 (Federalism)

NHTSA has examined this rule pursuant to Executive Order 13132 (64 FR 43255, August 10, 1999) and concluded that no additional consultation with States, local governments or their representatives is mandated beyond the rulemaking process. The agency has concluded that the rule does not have federalism implications because the rule does not have “substantial direct effects on the States, on the relationship between the national government and the States, or on the distribution of power and responsibilities among the various levels of government.” We note that the American Association of Motor Vehicle Administrators (AAMVA) was a member of the SAE committee that submitted the petition prompting this rulemaking.

Further, no consultation is needed to discuss the preemptive effect of today's rule. NHTSA rules can have preemptive effect in at least two ways. First, the National Traffic and Motor Vehicle Safety Act contains an express preemption provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1).

In addition to the express preemption noted above, the Supreme Court has also recognized that State requirements imposed on motor vehicle manufacturers, including sanctions imposed by State tort law, can stand as an obstacle to the accomplishment and execution of a NHTSA safety standard. When such a conflict is discerned, the Supremacy Clause of the Constitution makes the State requirements unenforceable. See Geier v. American Honda Motor Co., 529 U.S. 861 (2000). NHTSA has not outlined such potential State requirements in today's rulemaking, however, in part because such conflicts can arise in varied contexts, but it is conceivable that such a conflict may become clear through subsequent experience with today's rule. NHTSA may opine on such conflicts in the future, if warranted. See id. at 883-86.

National Technology Transfer and Advancement Act

Under the National Technology Transfer and Advancement Act of 1995 (NTTAA) (Pub. L. 104-113), “all Federal agencies and departments shall use technical standards that are developed or adopted by voluntary consensus standards bodies, using such technical standards as a means to carry out policy objectives or activities determined by the agencies and departments.” Voluntary consensus standards are technical standards (e.g., materials specifications, test methods, sampling procedures, and business practices) that are developed or adopted by voluntary consensus standards bodies, such as SAE. The NTTAA directs us to provide Congress, through OMB, explanations when we decide not to use available and applicable voluntary consensus standards.

This rule will make Part 565's requirements for manufacturer identifiers and for identifying attributes of the specific vehicle type more consistent with SAE and ISO standards for vehicle identification. The rule will permit the use of alphabetic and numeric characters in certain VIN positions, which is likely to substantially increase harmonization of Part 565 with the ISO identification standard.

Unfunded Mandates Reform Act

The Unfunded Mandates Reform Act of 1995 (Pub. L. 104-4) requires agencies to prepare a written assessment of the costs, benefits, and other effects of proposed or final rules that include a Federal mandate likely to result in the expenditures by State, local or tribal governments, in the aggregate, or by the private sector, of more than $100 million annually (adjusted annually for inflation with base year of 1995). Adjusting this amount by the implicit gross domestic product price deflator for the year 2007 results in $130 million annually (119.682 / 92.106 = 1.30). This final rule will not result in expenditures by State, local or tribal governments, in the aggregate, or by the private sector in excess of $130 million annually.

National Environmental Policy Act

NHTSA has analyzed this rulemaking action for the purposes of the National Environmental Policy Act. The agency has determined that implementation of this action will not have any significant impact on the quality of the human environment.

Executive Order 12988 (Civil Justice Reform)

When promulgating a regulation, Executive Order 12988 specifically requires that the agency must make every reasonable effort to ensure that the regulation, as appropriate: (1) Specifies in clear language the preemptive effect; (2) specifies in clear language the effect on existing Federal law or regulation, including all provisions repealed, circumscribed, displaced, impaired, or modified; (3) provides a clear legal standard for affected conduct rather than a general standard, while promoting simplification and burden reduction; (4) specifies in clear language the retroactive effect; (5) specifies whether administrative proceedings are to be required before parties may file suit in court; (6) explicitly or implicitly defines key terms; and (7) addresses other important issues affecting clarity and general draftsmanship of regulations.

NHTSA has reviewed this rule according to the general requirements and the specific requirements for regulations set forth in Executive Order 12988. This rule does not result in any preemptive effect and does not have a retroactive effect. A petition for reconsideration or other administrative proceeding is not required before parties may file suit in court.

Paperwork Reduction Act

Under the Paperwork Reduction Act of 1995 (PRA), a person is not required to respond to a collection of information by a Federal agency unless the collection displays a valid OMB control number. The Consolidated VIN Requirements have an OMB control number of 2127-0510. Although the agency may require information to be provided in a slightly different way as a result of this final rule (e.g., vehicle make being transferred from the first to the second section of the VIN), the scope of the overall reporting requirements of Part 565 will not change. We emphasize that there will be no increase or decrease in the collection of information because of this rulemaking.

Plain Language

Executive Order 12866 and the President's memorandum of June 1, 1998, require each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please send them to the address provided at the beginning of this document.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Please note that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78).

List of Subjects in 49 CFR Part 565

Motor vehicle safety, Reporting and recordkeeping requirements; incorporation by reference.

In consideration of the foregoing, NHTSA revises 49 CFR part 565 to read as follows:

PART 565—VEHICLE IDENTIFICATION NUMBER (VIN) REQUIREMENTS

Subpart A—General Applicability of Subparts
Sec.
565.1 Purpose and scope.
565.2 Application.
Subpart B—VIN Requirements
Sec.
565.10 Purpose and scope.
565.11 Applicability.
565.12 Definitions.
565.13 General requirements.
565.14 Motor vehicles imported into the United States.
565.15 Content requirements.
565.16 Reporting requirements.
Subpart C—Alternative VIN Requirements In Effect for Limited Period
565.20 Purpose and scope.
565.21 Applicability.
565.22 Definitions.
565.23 General requirements.
565.24 Motor vehicles imported into the United States.
565.25 Content requirements.
565.26 Reporting requirements.

Authority: 49 U.S.C. 322, 30111, 30115, 30117, 30141, 30146, 30166, and 30168; delegation of authority at 49 CFR 1.50.

Subpart A—General Applicability of Subparts

§ 565.1 Purpose and scope.

This part specifies the format, content and physical requirements for a vehicle identification number (VIN) system and its installation to simplify vehicle identification information retrieval and to increase the accuracy and efficiency of vehicle recall campaigns.

§ 565.2 Application.

(a) Subpart B of this part 565 applies to passenger cars, multipurpose passenger vehicles, trucks, buses, trailers (including trailer kits), incomplete vehicles, low speed vehicles, and motorcycles manufactured on or after October 27, 2008 whose VINs have a letter “A” or “B” in the 10th position, and to passenger cars, multipurpose passenger vehicles, trucks, buses, trailers (including trailer kits), incomplete vehicles, low speed vehicles, and motorcycles manufactured on or after April 30, 2009. Vehicles imported into the United States under 49 CFR 591.14(f), other than by the corporation responsible for the assembly of that vehicle or a subsidiary of such a corporation, are excluded from requirements of § 565.13(b), § 565.13(c), § 565.13(g), § 565.13(h), § 565.14 and § 565.15.

(b) Subpart C of this part 565 sets forth alternative VIN requirements for certain vehicles manufactured on or after April 30, 2008 and before April 30, 2009. For those vehicles, a manufacturer may, at its option, comply with the requirements of Subpart C instead of the requirements of Subpart B of this part, provided that the vehicle identification number (VIN) does not have a letter “A” or “B” in the 10th position of the VIN.

Subpart B—VIN Requirements

§ 565.10 Purpose and scope.

This part specifies the format, content and physical requirements for a vehicle identification number (VIN) system and its installation to simplify vehicle identification information retrieval and to increase the accuracy and efficiency of vehicle recall campaigns.

§ 565.11 Applicability.

See Subpart A of this part 572 regarding the general applicability of this subpart. This part applies to passenger cars, multipurpose passenger vehicles, trucks, buses, trailers (including trailer kits), incomplete vehicles, low speed vehicles, and motorcycles manufactured on or after October 27, 2008 whose VINs have a letter “A” or “B” in the 10th position, and to passenger cars, multipurpose passenger vehicles, trucks, buses, trailers (including trailer kits), incomplete vehicles, low speed vehicles, and motorcycles manufactured on or after April 30 2009. Vehicles imported into the United States under 49 CFR 591.14(f), other than by the corporation responsible for the assembly of that vehicle or a subsidiary of such a corporation, are excluded from requirements of § 565.13(b), § 565.13(c), § 565.13(g), § 565.13(h), § 565.14 and § 565.15.

§ 565.12 Definitions.

(a) Federal Motor Vehicle Safety Standards Definitions. Unless otherwise indicated, all terms used in this part that are defined in 49 CFR 571.3 are used as defined in 49 CFR 571.3.

(b) Body type means the general configuration or shape of a vehicle distinguished by such characteristics as the number of doors or windows, cargo-carrying features and the roofline (e.g., sedan, fastback, hatchback).

(c) Check digit means a single number or the letter X used to verify the accuracy of the transcription of the vehicle identification number.

(d) Engine type means a power source with defined characteristics such as fuel utilized, number of cylinders, displacement, and net brake horsepower. The specific manufacturer and make shall be represented if the engine powers a passenger car or a multipurpose passenger vehicle, or truck with a gross vehicle weight rating of 4536 kg (10,000 lb) or less.

(e) High-volume manufacturer, for purposes of this part, means a manufacturer of 1,000 or more vehicles of a given type each year.

(f) Incomplete vehicle means an assemblage consisting, as a minimum, of frame and chassis structure, power train, steering system, suspension system and braking system, to the extent that those systems are to be part of the completed vehicle, that requires further manufacturing operations, other than the addition of readily attachable components, such as mirrors or tire and rim assemblies, or minor finishing operations such as painting, to become a completed vehicle.

(g) Line means a name that a manufacturer applies to a family of vehicles within a make which have a degree of commonality in construction, such as body, chassis or cab type.

(h) Low-volume manufacturer, for purposes of this part, means a manufacturer of fewer than 1,000 vehicles of a given type each year.

(i) Make means a name that a manufacturer applies to a group of vehicles or engines.

(j) Manufacturer means a person—

(1) Manufacturing or assembling motor vehicles or motor vehicle equipment; or

(2) Importing motor vehicles or motor vehicle equipment for resale.

(k) Manufacturer identifier means the first three digits of a VIN of a vehicle manufactured by a high-volume manufacturer, and the first three digits of a VIN and the twelfth through fourteenth digits of a VIN of a vehicle manufactured by a low-volume manufacturer.

(l) Model means a name that a manufacturer applies to a family of vehicles of the same type, make, line, series and body type.

(m) Model year means the year used to designate a discrete vehicle model, irrespective of the calendar year in which the vehicle was actually produced, provided that the production period does not exceed 24 months.

(n) Plant of manufacture means the plant where the manufacturer affixes the VIN.

(o) Series means a name that a manufacturer applies to a subdivision of a “line” denoting price, size or weight identification and that is used by the manufacturer for marketing purposes.

(p) Trailer kit means a trailer that is fabricated and delivered in complete but unassembled form and that is designed to be assembled without special machinery or tools.

(q) Type means a class of vehicle distinguished by common traits, including design and purpose. Passenger cars, multipurpose passenger vehicles, trucks, buses, trailers, incomplete vehicles, low speed vehicles, and motorcycles are separate types.

(r) VIN means a series of Arabic numbers and Roman letters that is assigned to a motor vehicle for identification purposes.

§ 565.13 General requirements.

(a) Each vehicle manufactured in one stage shall have a VIN that is assigned by the manufacturer. Each vehicle manufactured in more than one stage shall have a VIN assigned by the incomplete vehicle manufacturer. Vehicle alterers, as specified in 49 CFR 567.16, shall utilize the VIN assigned by the original manufacturer of the vehicle.

(b) Each VIN shall consist of seventeen (17) characters.

(c) A check digit shall be part of each VIN. The check digit shall appear in position nine (9) of the VIN, on the vehicle and on any transfer documents containing the VIN prepared by the manufacturer to be given to the first owner for purposes other than resale.

(d) The VINs of any two vehicles subject to the Federal motor vehicle safety standards and manufactured within a 60-year period beginning with the 1980 model year shall not be identical.

(e) The VIN of each vehicle shall appear clearly and indelibly upon either a part of the vehicle, other than the glazing, that is not designed to be removed except for repair or upon a separate plate or label that is permanently affixed to such a part.

(f) The VIN for passenger cars, multipurpose passenger vehicles, low speed vehicles, and trucks of 4536 kg or less GVWR shall be located inside the passenger compartment. It shall be readable, without moving any part of the vehicle, through the vehicle glazing under daylight lighting conditions by an observer having 20/20 vision (Snellen) whose eye-point is located outside the vehicle adjacent to the left windshield pillar. Each character in the VIN subject to this paragraph shall have a minimum height of 4 mm.

(g) Each character in each VIN shall be one of the letters in the set: [ABCDEFGHJKLMNPRSTUVWXYZ] or a numeral in the set: [0123456789] assigned according to the method given in § 565.14.

(h) All spaces provided for in the VIN must be occupied by a character specified in paragraph (g) of this section.

(i) The type face utilized for each VIN shall consist of capital, sanserif characters.

§ 565.14 Motor vehicles imported into the United States.

(a) Importers shall utilize the VIN assigned by the original manufacturer of the motor vehicle.

(b) All passenger cars, multipurpose passenger vehicles, low speed vehicles and trucks of 4536 kg or less GVWR certified by a Registered Importer under 49 CFR part 592 whose VINs do not comply with Part 565.13 and 565.14 shall have a plate or label that contains the following statement, in characters that have a minimum height of 4 mm and the identification number assigned by the vehicle's original manufacturer inserted in the blank: SUBSTITUTE FOR U.S. VIN: _____ SEE 49 CFR PART 565. The plate or label shall conform to § 565.13 (h) and (i). The plate or label shall be permanently affixed inside the passenger compartment. The plate or label shall be readable, without moving any part of the vehicle, through the vehicle glazing under daylight conditions by an observer having 20/20 vision (Snellen) whose eye-point is located outside the vehicle adjacent to the left windshield pillar. It shall be located in such a manner as not to cover, obscure, or overlay any part of any identification number affixed by the original manufacturer. Motor vehicles conforming to Canada Motor Vehicle Safety Standard 115 are exempt from this paragraph.

§ 565.15 Content requirements.

(a) The first section shall consist of three characters that occupy positions one through three (1-3) in the VIN. This section shall uniquely identify the manufacturer and type of the motor vehicle if the manufacturer is a high-volume manufacturer. If the manufacturer is a low-volume manufacturer, positions one through three (1-3) along with positions twelve through fourteen (12-14) in the VIN shall uniquely identify the manufacturer and type of the motor vehicle. These characters are assigned in accordance with § 565.16(a). A “9” shall be placed in the third position of the VIN if the manufacturer identifier is six characters. A “9” in the third position always indicates the presence of a six-character manufacturer identifier. The National Highway Traffic Safety Administration offers access to manufacturer identifier assignments via its search engine at the following Internet Web site: http://www.nhtsa.dot.gov/cars/rules/manufacture.

(b) The second section shall consist of five characters, which occupy positions four through eight (4-8) in the VIN. This section shall uniquely identify the attributes of the vehicle as specified in Table I. For passenger cars, and for multipurpose passenger vehicles and trucks with a gross vehicle weight rating of 4536 kg (10,000 lb) or less, the fourth character (position 7) of this section shall be alphabetic. The characters utilized and their placement within the section may be determined by the manufacturer, but the specified attributes must be decipherable with information supplied by the manufacturer in accordance with § 565.16(c). In submitting the required information to NHTSA relating gross vehicle weight rating, the designations in Table II shall be used. The use of these designations within the VIN itself is not required. Tables I and II follow:

Table I.—Type of Vehicle and Information Decipherable
Passenger car: Make, line, series, body type, engine type, and all restraint devices and their location.
Multipurpose passenger vehicle: Make, line, series, body type, engine type, gross vehicle weight rating, and for multipurpose passenger vehicles with a gross vehicle weight rating (GVWR) of 4536kg (10,000 lb) or less all restraint devices and their location.
Truck: Make, model or line, series, chassis, cab type, engine type, brake system, gross vehicle weight rating, and for trucks with a gross vehicle weight rating (GVWR) of 4536 kg (10,000 lb) or less all restraint devices and their location.
Bus: Make, model or line, series, body type, engine type, and brake system.
Trailer, including trailer kits and incomplete trailer: Make, type of trailer, body type, length and axle configuration.
Motorcycle: Make, type of motorcycle, line, engine type, and net brake horsepower.
Incomplete vehicle other than a trailer: Make, model or line, series, cab type, engine type, and brake system.
Low speed vehicle: Make, engine type, brake system, restraint system type, body type, and gross vehicle weight rating.
Note to Table I: Engine net brake horsepower when encoded in the VIN shall differ by no more than 10 percent from the actual net brake horsepower; shall in the case of motorcycle with an actual net brake horsepower of 2 or less, be not more than 2; and shall be greater than 2 in the case of a motorcycle with an actual brake horsepower greater than 2.

Table II.—Gross Vehicle Weight Rating Classes
Class A—Not greater than 1360 kg. (3,000 lbs.)
Class B—Greater than 1360 kg. to 1814 kg. (3,001-4,000 lbs.)
Class C—Greater than 1814 kg. to 2268 kg. (4,001-5,000 lbs.)
Class D—Greater than 2268 kg. to 2722 kg. (5,001-6,000 lbs.)
Class E—Greater than 2722 kg. to 3175 kg. (6,001-7,000 lbs.)
Class F—Greater than 3175 kg. to 3629 kg. (7,001-8,000 lbs.)
Class G—Greater than 3629 kg. to 4082 kg. (8,001-9,000 lbs.)
Class H—Greater than 4082 kg. to 4536 kg. (9,001-10,000 lbs.)
Class 3—Greater than 4536 kg. to 6350 kg. (10,001-14,000 lbs.)
Class 4—Greater than 6350 kg. to 7257 kg. (14,001-16,000 lbs.)
Class 5—Greater than 7257 kg. to 8845 kg. (16,001-19,500 lbs.)
Class 6—Greater than 8845 kg. to 11793 kg. (19,501-26,000 lbs.)
Class 7—Greater than 11793 kg. to 14968 kg.(26,001-33,000 lbs.)
Class 8—Greater than 14968 kg. (33,001 lbs. and over)

(c) The third section shall consist of one character, which occupies position nine (9) in the VIN. This section shall be the check digit whose purpose is to provide a means for verifying the accuracy of any VIN transcription. After all other characters in VIN have been determined by the manufacturer, the check digit shall be calculated by carrying out the mathematical computation specified in paragraphs (c) (1) through (4) of this section.

(1) Assign to each number in the VIN its actual mathematical value and assign to each letter the value specified for it in Table III, as follows:

Table III.—Assigned Values
A = 1
B = 2
C = 3
D = 4
E = 5
F = 6
G = 7
H = 8
J = 1
K = 2
L = 3
M = 4
N = 5
P = 7
R = 9
S = 2
T = 3
U = 4
V = 5
W = 6
X = 7
Y = 8
Z = 9

(2) Multiply the assigned value for each character in the VIN by the position weight factor specified in Table IV, as follows:

Table IV.—VIN Position and Weight Factor
1st | 8
2d | 7
3d | 6
4th | 5
5th | 4
6th | 3
7th | 2
8th | 10
9th | (check digit)
10th | 9
11th | 8
12th | 7
13th | 6
14th | 5
15th | 4
16th | 3
17th | 2

(3) Add the resulting products and divide the total by 11.

(4) The check digit is based on either the Fractional Remainder or the Decimal Equivalent Remainder as reflected in Table V. All Decimal Equivalent Remainders in Table V are rounded to the nearest thousandth. The check digit, zero through nine (0-9) or the letter “X” shall appear in VIN position nine (9).

Table V.—Ninth Position Check Digit Values
[Rounded to the nearest thousandth]
Fractional Remainder | 0 | 1/11 | 2/11 | 3/11 | 4/11 | 5/11 | 6/11 | 7/11 | 8/11 | 9/11 | 10/11
Decimal Equivalent Remainder | 0 | 0.091 | 0.182 | 0.273 | 0.364 | 0.455 | 0.545 | 0.634 | 0.727 | 0.818 | 0.909
Check Digit | 0 | 1 | 2 | 3 | 4 | 5 | 6 | 7 | 8 | 9 | X

(5) A sample check digit calculation is shown in Table VI as follows:

Table VI.—Calculation of a Check Digit
Vin Position | 1 | 2 | 3 | 4 | 5 | 6 | 7 | 8 | 9 | 10 | 11 | 12 | 13 | 14 | 15 | 16 | 17
Sample VIN | 1 | G | 4 | A | H | 5 | 9 | H |  | 5 | G | 1 | 1 | 8 | 3 | 4 | 1
Assigned Value | 1 | 7 | 4 | 1 | 8 | 5 | 9 | 8 |  | 5 | 7 | 1 | 1 | 8 | 3 | 4 | 1
Weight Factor | 8 | 7 | 6 | 5 | 4 | 3 | 2 | 10 | 0 | 9 | 8 | 7 | 6 | 5 | 4 | 3 | 2
Multiply Assigned value times weight factor | 8 | 49 | 24 | 5 | 32 | 15 | 18 | 80 | 0 | 45 | 56 | 7 | 6 | 40 | 12 | 12 | 2
Add products: 8+49+24+5+32+15+18+80+0+45+56+7+6+40+12+12+2 = 411.
Divide by 11: 411/11 = 37 4/11 or 37.3636.
If the fourth digit is 5 or greater, round up. If the fourth digit is 4 or smaller, round down.
In the example above, the remainder is 4/11 or 0.364 when rounded up.
Looking up the remainder in Table V—Ninth Position Check Digit Values indicates that “4” is the check digit to be inserted in position nine (9) of the VIN for this sample digit calculation.

(d) The fourth section shall consist of eight characters, which occupy positions ten through seventeen (10-17) of the VIN. The last five (5) characters of this section shall be numeric for passenger cars and for multipurpose passenger vehicles and trucks with a gross vehicle weight rating of 4536 kg. (10,000 lbs.) or less, and the last four (4) characters shall be numeric for all other vehicles.

(1) The first character of the fourth section shall represent the vehicle model year. The year shall be designated as indicated in Table VII as follows:

Table VII.—Year Codes for VIN
Year | Code
2005 | 5
2006 | 6
2007 | 7
2008 | 8
2009 | 9
2010 | A
2011 | B
2012 | C
2013 | D
2014 | E
2015 | F
2016 | G
2017 | H
2018 | J
2019 | K
2020 | L
2021 | M
2022 | N
2023 | P
2024 | R
2025 | S
2026 | T
2027 | V
2028 | W
2029 | X
2030 | Y
2031 | 1
2032 | 2
2033 | 3
2034 | 4
2035 | 5
2036 | 6
2037 | 7
2038 | 8
2039 | 9
Note to Table VII: For passenger cars, and for multipurpose passenger vehicles and trucks with a gross vehicle weight rating of 4536 kg (10,000 lb) or less, if position 7 is numeric, the Model Year in position 10 of the VIN refers to a year in the range 1980-2009. If position 7 is alphabetic, the Model Year in Position 10 of the VIN refers to a year in the range 2010-2039.

(2) The second character of the fourth section shall represent the plant of manufacture.

(3) The third through the eighth characters of the fourth section (positions 12 through 17) shall represent the number sequentially assigned by the manufacturer in the production process if the manufacturer is a high-volume manufacturer. If a manufacturer is a low-volume manufacturer, the third, fourth, and fifth characters of the fourth section (positions 12, 13, and 14), combined with the three characters of the first section (positions 1, 2, and 3), shall uniquely identify the manufacturer and type of the motor vehicle and the sixth, seventh, and eighth characters of the fourth section (positions 15, 16, and 17) shall represent the number sequentially assigned by the manufacturer in the production process.

§ 565.16 Reporting requirements.

The information collection requirements contained in this part have been approved by the Office of Management and Budget under the provisions of the Paperwork Reduction Act (44 U.S.C. 3501 et seq. ) and have been assigned OMB Control Number 2127-0510.

(a) The National Highway Traffic Safety Administration (NHTSA) has contracted with the SAE International to coordinate the assignment of manufacturer identifiers to manufacturers in the United States. Manufacturer identifiers will be supplied by SAE at no charge. All requests for assignments of manufacturer identifiers should be forwarded directly to: SAE International, 400 Commonwealth Drive, Warrendale, Pennsylvania, 15096, Attention: WMI Coordinator (telephone: 724-776-4841). Any requests for identifiers submitted to NHTSA will be forwarded to SAE. Manufacturers may request a specific identifier or may request only assignment of an identifier(s). SAE will review requests for specific identifiers to determine that they do not conflict with an identifier already assigned or block of identifiers already reserved. SAE will confirm the assignments in writing to the requester. Once confirmed by SAE, the identifier need not be resubmitted to NHTSA.

(b) Manufacturers of vehicles subject to this part shall submit, either directly or through an agent, the unique identifier for each make and type of vehicle it manufactures at least 60 days before affixing the first VIN using the identifier. Manufacturers whose unique identifier appears in the fourth section of the VIN shall also submit the three characters of the first section that constitutes a part of their identifier.

(c) Manufacturers of vehicles subject to the requirements of this part shall submit to NHTSA the information necessary to decipher the characters contained in its VINs. Amendments to this information shall be submitted to the agency for VINs containing an amended coding. The agency will not routinely provide written approvals of these submissions, but will contact the manufacturer should any corrections to these submissions be necessary.

(d) The information required under paragraph (c) of this section shall be submitted at least 60 days prior to offering for sale the first vehicle identified by a VIN containing that information, or if information concerning vehicle characteristics sufficient to specify the VIN code is unavailable to the manufacturer by that date, then within one week after that information first becomes available. The information shall be addressed to: Administrator, National Highway Traffic Safety Administration, 1200 New Jersey Avenue, SE, Washington, DC 20590, Attention: VIN Coordinator.

Subpart C—Alternative VIN Requirements In Effect for Limited Period

§ 565.20 Purpose and scope.

This part specifies the format, content and physical requirements for a vehicle identification number (VIN) system and its installation to simplify vehicle identification information retrieval and to increase the accuracy and efficiency of vehicle recall campaigns.

§ 565.21 Applicability.

See Subpart A of this part 572 regarding the applicability of this subpart. This part applies to passenger cars, multipurpose passenger vehicles, trucks, buses, trailers (including trailer kits), incomplete vehicles, and motorcycles. Vehicles imported into the United States under 49 CFR 591.24(f), other than by the corporation responsible for the assembly of that vehicle or a subsidiary of such a corporation, are excluded from requirements of § 565.23(b), § 565.23(c), § 565.23(g), § 565.23(h), § 565.24 and § 565.25.

§ 565.22 Definitions.

(a) Federal Motor Vehicle Safety Standards Definitions. Unless otherwise indicated, all terms used in this part that are defined in 49 CFR 571.3 are used as defined in 49 CFR 571.3.

(b) Body type means the general configuration or shape of a vehicle distinguished by such characteristics as the number of doors or windows, cargo-carrying features and the roofline (e.g., sedan, fastback, hatchback).

(c) Check digit means a single number or the letter X used to verify the accuracy of the transcription of the vehicle identification number.

(d) Engine type means a power source with defined characteristics such as fuel utilized, number of cylinders, displacement, and net brake horsepower. The specific manufacturer and make shall be represented if the engine powers a passenger car or a multipurpose passenger vehicle, or truck with a gross vehicle weight rating of 4536 kg. (10,000 lbs.) or less.

(e) Incomplete vehicle means an assemblage consisting, as a minimum, of frame and chassis structure, power train, steering system, suspension system and braking system, to the extent that those systems are to be part of the completed vehicle, that requires further manufacturing operations, other than the addition of readily attachable components, such as mirrors or tire and rim assemblies, or minor finishing operations such as painting, to become a completed vehicle.

(f) Line means a name that a manufacturer applies to a family of vehicles within a make which have a degree of commonality in construction, such as body, chassis or cab type.

(g) Make means a name that a manufacturer applies to a group of vehicles or engines.

(h) Manufacturer means a person—

(1) Manufacturing or assembling motor vehicles or motor vehicle equipment; or

(2) Importing motor vehicles or motor vehicle equipment for resale.

(i) Model means a name that a manufacturer applies to a family of vehicles of the same type, make, line, series and body type.

(j) Model Year means the year used to designate a discrete vehicle model, irrespective of the calendar year in which the vehicle was actually produced, provided that the production period does not exceed 24 months.

(k) Plant of manufacture means the plant where the manufacturer affixes the VIN.

(l) Series means a name that a manufacturer applies to a subdivision of a “line” denoting price, size or weight identification and that is used by the manufacturer for marketing purposes.

(m) Trailer kit means a trailer that is fabricated and delivered in complete but unassembled form and that is designed to be assembled without special machinery or tools.

(n) Type means a class of vehicle distinguished by common traits, including design and purpose. Passenger cars, multipurpose passenger vehicles, trucks, buses, trailers, incomplete vehicles and motorcycles are separate types.

(o) VIN means a series of Arabic numbers and Roman letters that is assigned to a motor vehicle for identification purposes.

§ 565.23 General requirements.

(a) Each vehicle manufactured in one stage shall have a VIN that is assigned by the manufacturer. Each vehicle manufactured in more than one stage shall have a VIN assigned by the incomplete vehicle manufacturer. Vehicle alterers, as specified in 49 CFR 567.26, shall utilize the VIN assigned by the original manufacturer of the vehicle.

(b) Each VIN shall consist of seventeen (17) characters.

(c) A check digit shall be part of each VIN. The check digit shall appear in position nine (9) of the VIN, on the vehicle and on any transfer documents containing the VIN prepared by the manufacturer to be given to the first owner for purposes other than resale.

(d) The VINs of any two vehicles manufactured within a 30-year period shall not be identical.

(e) The VIN of each vehicle shall appear clearly and indelibly upon either a part of the vehicle, other than the glazing, that is not designed to be removed except for repair or upon a separate plate or label that is permanently affixed to such a part.

(f) The VIN for passenger cars, multipurpose passenger vehicles and trucks of 4536 kg or less GVWR shall be located inside the passenger compartment. It shall be readable, without moving any part of the vehicle, through the vehicle glazing under daylight lighting conditions by an observer having 20/20 vision (Snellen) whose eye-point is located outside the vehicle adjacent to the left windshield pillar. Each character in the VIN subject to this paragraph shall have a minimum height of 4 mm.

(g) Each character in each VIN shall be one of the letters in the set: [ABCDEFGHJKLMNPRSTUVWXYZ] or a numeral in the set: [0123456789] assigned according to the method given in § 565.24.

(h) All spaces provided for in the VIN must be occupied by a character specified in paragraph (g) of this section.

(i) The type face utilized for each VIN shall consist of capital, sanserif characters.

§ 565.24 Motor vehicles imported into the United States.

(a) Importers shall utilize the VIN assigned by the original manufacturer of the motor vehicle.

(b) A passenger car certified by a Registered Importer under 49 CFR part 592 shall have a plate or label that contains the following statement, in characters with a minimum height of 4 mm, with the identification number assigned by the original manufacturer provided in the blank: SUBSTITUTE FOR U.S. VIN:___SEE PART 565. The plate or label shall conform to § 565.23 (h) and (i). The plate or label shall be permanently affixed inside the passenger compartment. The plate or label shall be readable, without moving any part of the vehicle, through the vehicle glazing under daylight lighting conditions by an observer having 20/20 vision (Snellen) whose eye-point is located outside the vehicle adjacent to the left windshield pillar. It shall be located in such a manner as not to cover, obscure, or overlay any part of any identification number affixed by the original manufacturer. Passenger cars conforming to Canadian Motor Vehicle Safety Standard 115 are exempt from this paragraph.

§ 565.25 Content requirements.

The VIN shall consist of four sections of characters which shall be grouped accordingly:

(a) The first section shall consist of three characters that occupy positions one through three (1-3) in the VIN. This section shall uniquely identify the manufacturer, make and type of the motor vehicle if its manufacturer produces 500 or more motor vehicles of its type annually. If the manufacturer produces less than 500 motor vehicles of its type annually, these characters along with the third, fourth and fifth characters of the fourth section shall uniquely identify the manufacturer, make and type of the motor vehicle. These characters are assigned in accordance with § 565.26(a).

(b) The second section shall consist of five characters, which occupy positions four through eight (4-8) in the VIN. This section shall uniquely identify the attributes of the vehicle as specified in Table VIII. For passenger cars, and for multipurpose passenger vehicles and trucks with a gross vehicle weight rating of 4536 kg (10,000 lb) or less, the first and second characters shall be alphabetic and the third and fourth characters shall be numeric. The fifth character may be either alphabetic or numeric. The characters utilized and their placement within the section may be determined by the manufacturer, but the specified attributes must be decipherable with information supplied by the manufacturer in accordance with § 565.26(c). In submitting the required information to NHTSA relating to gross vehicle weight rating, the designations in Table IX shall be used. The use of these designations within the VIN itself is not required. Tables VIII and IX follow:

Table VIII.—Type of Vehicle and Information Decipherable
Passenger car: Line, series, body type, engine type and restraint system type.
Multipurpose passenger vehicle: Line, series, body type, engine type, gross vehicle weight rating.
Truck: Model or line, series, chassis, cab type, engine type, brake system and gross vehicle weight rating.
Bus: Model or line, series, body type, engine type, and brake system.
Trailer, including trailer kits and incomplete trailer: Type of trailer, body type, length and axle configuration.
Motorcycle: Type of motorcycle, line, engine type, and net brake horsepower.
Incomplete Vehicle other than a trailer: Model or line, series, cab type, engine type and brake system.
Note to Table VIII: Engine net brake horsepower when encoded in the VIN shall differ by no more than 10 percent from the actual net brake horsepower; shall in the case of motorcycle with an actual net brake horsepower of 2 or less, be not more than 2; and shall be greater than 2 in the case of a motorcycle with an actual brake horsepower greater than 2.

Table IX.—Gross Vehicle Weight Rating Classes
Class A—Not greater than 1360 kg. (3,000 lbs.)
Class B—Greater than 1360 kg. to 1814 kg. (3,001-4,000 lbs.)
Class C—Greater than 1814 kg. to 2268 kg. (4,001-5,000 lbs.)
Class D—Greater than 2268 kg. to 2722 kg. (5,001-6,000 lbs.)
Class E—Greater than 2722 kg. to 3175 kg. (6,001-7,000 lbs.)
Class F—Greater than 3175 kg. to 3629 kg. (7,001-8,000 lbs.)
Class G—Greater than 3629 kg. to 4082 kg. (8,001-9,000 lbs.)
Class H—Greater than 4082 kg. to 4536 kg. (9,001-10,000 lbs.)
Class 3—Greater than 4536 kg. to 6350 kg. (10,001-14,000 lbs.)
Class 4—Greater than 6350 kg. to 7257 kg. (14,001-16,000 lbs.)
Class 5—Greater than 7257 kg. to 8845 kg. (16,001-19,500 lbs.)
Class 6—Greater than 8845 kg. to 11793 kg. (19,501-26,000 lbs.)
Class 7—Greater than 11793 kg. to 14968 kg.(26,001-33,000 lbs.)
Class 8—Greater than 14968 kg. (33,001 lbs. and over).

(c) The third section shall consist of one character, which occupies position nine (9) in the VIN. This section shall be the check digit whose purpose is to provide a means for verifying the accuracy of any VIN transcription. After all other characters in VIN have been determined by the manufacturer, the check digit shall be calculated by carrying out the mathematical computation specified in paragraphs (c) (1) through (4) of this section.

(1) Assign to each number in the VIN its actual mathematical value and assign to each letter the value specified for it in Table X, as follows:

Table X.—Assigned Values
A = 1
B = 2
C = 3
D = 4
E = 5
F = 6
G = 7
H = 8
J = 1
K = 2
L = 3
M = 4
N = 5
P = 7
R = 9
S = 2
T = 3
U = 4
V = 5
W = 6
X = 7
Y = 8
Z = 9

(2) Multiply the assigned value for each character in the VIN by the position weight factor specified in Table XI, as follows:

Table XI.—VIN Position and Weight Factor
1st | 8
2d | 7
3d | 6
4th | 5
5th | 4
6th | 3
7th | 2
8th | 10
9th | (check digit)
10th | 9
11th | 8
12th | 7
13th | 6
14th | 5
15th | 4
16th | 3
17th | 2

(3) Add the resulting products and divide the total by 11.

(4) The numerical remainder is the check digit. If the remainder is 10 the letter “X” shall be used to designate the check digit. The correct numeric remainder, zero through nine (0-9) or the letter “X,” shall appear in VIN position nine (9).

(5) A sample check digit calculation is shown in Table XII as follows:

Table XII.—Calculation of a Check Digit
VIN Position 12 | 1 | 2 | 3 | 4 | 5 | 6 | 7 | 8 | 9 | 10 | 11 | 12 | 13 | 14 | 15 | 16 | 17
Sample VIN | 1 | G | 4 | A | H | 5 | 9 | H | ... | 5 | G | 1 | 1 | 8 | 3 | 4 | 1
Assigned Value | 1 | 7 | 4 | 1 | 8 | 5 | 9 | 8 | ... | 5 | 7 | 1 | 1 | 8 | 3 | 4 | 1
Weight Factor | 8 | 7 | 6 | 5 | 4 | 3 | 2 | 10 | 0 | 9 | 8 | 7 | 6 | 5 | 4 | 3 | 2
Multiply Assigned value times | 8 | 49 | 24 | 5 | 32 | 15 | 18 | 80 | 0 | 45 | 56 | 7 | 6 | 40 | 12 | 12 | 2
Add products: 8+49+24+5+32+15+18+80+0+45+56+7+6+40+12+12+2 = 411.
Divide by 11: 411/11 = 37 4/11.
The remainder is 4; this is the check digit to be inserted in position nine (9) of the VIN.

(d) The fourth section shall consist of eight characters, which occupy positions ten through seventeen (10-17) of the VIN. The last five (5) characters of this section shall be numeric for passenger cars and for multipurpose passenger vehicles and trucks with a gross vehicle weight rating of 4536 kg. (10,000 lbs.) or less, and the last four (4) characters shall be numeric for all other vehicles.

(1) The first character of the fourth section shall represent the vehicle model year. The year shall be designated as indicated in Table XIII as follows:

Table XIII.—Year Codes for VIN
Year | Code
1980 | A
1981 | B
1982 | C
1983 | D
1984 | E
1985 | F
1986 | G
1987 | H
1988 | J
1989 | K
1990 | L
1991 | M
1992 | N
1993 | P
1994 | R
1995 | S
1996 | T
1997 | V
1998 | W
1999 | X
2000 | Y
2001 | 1
2002 | 2
2003 | 3
2004 | 4
2005 | 5
2006 | 6
2007 | 7
2008 | 8
2009 | 9
2010 | A
2011 | B
2012 | C
2013 | D

(2) The second character of the fourth section shall represent the plant of manufacture.

(3) The third through the eighth characters of the fourth section shall represent the number sequentially assigned by the manufacturer in the production process if the manufacturer produces 500 or more vehicles of its type annually. If the manufacturer produces less than 500 motor vehicles of its type annually, the third, fourth and fifth characters of the fourth section, combined with the three characters of the first section, shall uniquely identify the manufacturer, make and type of the motor vehicle and the sixth, seventh, and eighth characters of the fourth section shall represent the number sequentially assigned by the manufacturer in the production process.

§ 565.26 Reporting requirements.

The information collection requirements contained in this part have been approved by the Office of Management and Budget under the provisions of the Paperwork Reduction Act (44 U.S.C. 3501 et seq.) and have been assigned OMB Control Number 2127-0510.

(a) The National Highway Traffic Safety Administration (NHTSA) has contracted with the SAE International (SAE) to coordinate the assignment of manufacturer identifiers. Manufacturer identifiers will be supplied by SAE at no charge. All requests for assignments of manufacturer identifiers should be forwarded directly to: SAE International, 400 Commonwealth Drive, Warrendale, Pennsylvania 15096, Attention: WMI Coordinator. Any requests for identifiers submitted to NHTSA will be forwarded to SAE. Manufacturers may request a specific identifier or may request only assignment of an identifier(s). SAE will review requests for specific identifiers to determine that they do not conflict with an identifier already assigned or block of identifiers already reserved. SAE will confirm the assignments in writing to the requester. Once confirmed by SAE, the identifier need not be resubmitted to NHTSA.

(b) Manufacturers of vehicles subject to this part shall submit, either directly or through an agent, the unique identifier for each make and type of vehicle it manufactures at least 60 days before affixing the first VIN using the identifier. Manufacturers whose unique identifier appears in the fourth section of the VIN shall also submit the three characters of the first section that constitutes a part of their identifier.

(c) Manufacturers of vehicles subject to the requirements of this part shall submit to NHTSA the information necessary to decipher the characters contained in its VINs. Amendments to this information shall be submitted to the agency for VINs containing an amended coding. The agency will not routinely provide written approvals of these submissions, but will contact the manufacturer should any corrections to these submissions be necessary.

(d) The information required under paragraph (c) of this section shall be submitted at least 60 days prior to offering for sale the first vehicle identified by a VIN containing that information, or if information concerning vehicle characteristics sufficient to specify the VIN code is unavailable to the manufacturer by that date, then within one week after that information first becomes available. The information shall be addressed to: Administrator, National Highway Traffic Safety Administration, 1200 New Jersey Avenue, SE., Washington, DC 20590, Attention: VIN Coordinator.

Issued: April 24, 2008.
Nicole R. Nason,
Administrator.

[FR Doc. 08-1197 Filed 4-25-08; 10:50 am]

BILLING CODE 4910-59-P